DEPARTMENT OF TRANSPORTATION

Federal Aviation Administration

Associate Administrator for Commercial Space Transportation; Notice of Availability and Request for Comment on a Draft Environmental Assessment (EA)/Initial Study for the East Kern Airport District (EKAD) Launch Site Operator License for the Mojave Airport, CA

AGENCY: Federal Aviation Administration (FAA), Associate Administrator for Commercial Space Transportation (AST) is the lead Federal agency for NEPA. The U.S. Air Force is a cooperating agency for NEPA. The EKAD is the lead agency for CEQA.

ACTION: Notice of availability and request for comment.

SUMMARY: In accordance with NEPA regulations, the FAA is initiating a public review and comment period for a Draft EA/Initial Study. Under the proposed action, the FAA would issue a launch site operator license for the EKAD to operate a launch facility at the Mojave Airport. The FAA may also use the analysis from this EA to issue a launch license to individual operators for launches from the Mojave Airport. If issued, the launch site operator license would authorize the EKAD to operate a launch facility at the Mojave Airport. This launch site operator license would be for the purpose of operating a facility to launch horizontally launched, suborbital rockets.¹ In addition, the EKAD may offer other services for commercial launch companies at the Mojave Airport including static engine firings, launch vehicle manufacturing, and other testing and manufacturing activities. The function of the launch facility would be to provide a location to launch manned suborbital rockets and other payloads ² into suborbital trajectories. The issuance of a launch site operator license to EKAD does not permit EKAD to conduct launches, only to offer the facility and infrastructure to launch operators. A launch site operator license remains in effect for five years from the date of issuance unless surrendered, suspended, or revoked before the expiration of the term and is renewable upon application by the licensee (14 Code of Federal Regulations (CFR) 420.43). A license to operate a launch site authorizes a licensee to offer its launch site to a launch operator for each launch point for the type and weight class of launch vehicle identified in the license application and upon which the licensing determination is based. Issuance of a license to operate a launch site does not relieve a licensee of its obligation to comply with any other laws or regulations, nor does it confer any proprietary, property, or exclusive right in the use of airspace or outer space (14 CFR 420.41). The FAA may use the analysis in this document as the basis for an environmental determination of the impacts of these launches to support licensing decisions for the launch of specific launch vehicles from the Mojave Airport.

¹ The FAA has proposed the following definition for suborbital rocket which is being considered for adoption but has not yet been approved: “a rocket propelled vehicle intended for flight on a suborbital trajectory whose thrust is greater than its lift for the majority of the powered portion of its flight.” The following definition has been proposed but not approved for suborbital trajectory: “the intentional flight path of a launch vehicle, reentry vehicle, or any portion thereof whose vacuum instantaneous impact point does not leave the surface of the earth.”

² For purposes of this document, the payload is the item that an aircraft or rocket carries over and above what is necessary for the operation of the vehicle in flight.

DATES: The public comment period for the NEPA process begins with the publication of this notice and request for comment in the Federal Register. To ensure that all comments can be addressed in the Final EA, comments must be received by the FAA no later than December 12, 2003.

FOR FURTHER INFORMATION CONTACT: Written and oral comments regarding the Draft EA/Initial Study should be submitted to Ms. Michon Washington, FAA Environmental Specialist, Mojave Airport EA, c/o ICF Consulting, 9300 Lee Highway, Fairfax, VA 22031; e-mail mojave.ea@icfconsulting.com; toll-free phone (800) 767-9956; toll-free fax (800) 380-1009; or through an online comment form available at http://ast.faa.gov.

SUPPLEMENTARY INFORMATION: The proposed action is for the FAA to issue a launch site operator license to the EKAD for the Mojave Airport. 14 CFR Chapter III, part 420 contains the requirements for obtaining and possessing a license to operate a launch site. Under the regulations, an applicant is required to provide the FAA with information sufficient to conduct environmental and policy reviews and determinations. The EKAD intends to operate a launch site at the Mojave Airport for commercial use by providing customers a site from which to launch suborbital missions using horizontally launched vehicles, and therefore must obtain a launch site operator license from the FAA.

The successful completion of the environmental review process does not guarantee that the FAA would issue a launch site operator license to the EKAD for the Mojave Airport or a launch license to an individual launch operator. The project must also meet all FAA safety, risk, and indemnification requirements. A license to operate a launch site does not guarantee that a launch license would be granted for any particular launch proposed for the site. All individual launch license applicants would be subject to separate FAA licensing.

The EKAD has identified two types of launch vehicles, identified in this analysis as Concept A and Concept B, which would be typical of the vehicles that would operate from the Mojave Airport. The proposed action/preferred alternative would include launches of both Concept A and Concept B launch vehicles. The potential users of the launch site would be responsible for obtaining any necessary permits or approvals including a launch license for specific missions from the FAA. This document may be used as the basis for the FAA to make a determination about licensing the launches of some types of launch vehicles from the Mojave Airport. The FAA may also use this document as the basis for an environmental finding that would serve as part of the requirements of the FAA launch licensing process for proposed launch operators at the Mojave Airport. Additional environmental analysis would need to be conducted for any activity that is not addressed in this Draft EA/Initial Study or in previous environmental analyses.

Launch vehicles included in Concept A consist of two components both of which would be piloted, a carrier aircraft and a mated suborbital launch vehicle. The carrier aircraft would carry the launch vehicle to the designated launch release altitude. The launch vehicle would use only suborbital trajectories and, therefore, would not reach Earth orbit. Concept A launch vehicles would launch and land horizontally at the Mojave Airport. They would not require runway lengths in excess of existing infrastructure at the Mojave Airport.

Launch vehicles included in Concept B would be a single piloted component. The rocket motors would be ignited while the launch vehicle is on the runway at the Mojave Airport. Concept B launch vehicles would use suborbital trajectories and, therefore, would not reach Earth orbit. Concept B launch vehicles would launch and land horizontally at the Mojave Airport. They would not require runway lengths in excess of existing infrastructure at the Mojave Airport.

Two alternatives to the proposed action were considered in the Draft EA/Initial Study. The first alternative would be to issue a launch site operator license to the EKAD for the Mojave Airport for inclusion of launch vehicles specifically fitting the description of Concept A. The second alternative would be to issue a launch site operator license to the EKAD for the Mojave Airport for inclusion of launch vehicles specifically fitting the description of Concept B.

Potential impacts of the proposed action and alternatives were analyzed in the Draft EA/Initial Study. Potential environmental impacts of successful launches include impacts to air quality, airspace, biological resources, cultural resources, health and safety, hazardous materials and hazardous waste, geology and soils, land use, noise, socioeconomics and environmental justice, transportation, visual and aesthetic resources, and water resources. The impacts of the No Action Alternative would be the same as those described for the affected environment in the Draft EA/Initial Study.

Potential cumulative impacts of the operation of the proposed launch site are also addressed in the Draft EA/Initial Study.

Date Issued: October 30, 2003.
Herbert Bachner,
Manager, Space Systems Development Division.

[FR Doc. 03-27894 Filed 11-5-03; 8:45 am]

BILLING CODE 4910-13-U